DEPARTMENT OF COMMERCE

National Oceanic and Atmospheric Administration

RIN 0648-XB114

Notice of Availability of Draft Documents for Public Comment Related to a Fishery Conservation Plan and Research Permits for the Washington State Department of Fish and Wildlife

AGENCY: National Marine Fisheries Service (NMFS), National Oceanic and Atmospheric Administration (NOAA), Commerce.

ACTION: Notice.

SUMMARY: The Washington State Department of Fish and Wildlife (WDFW) has submitted applications to NMFS for four scientific research permits and one incidental take permit (Permits) under the Endangered Species Act of 1973, as amended (ESA). We prepared a draft Environmental Assessment (EA) to support permit-issuance decisions. As required by the ESA, WDFW has also prepared a Conservation Plan (Plan) designed to minimize and mitigate any such take of endangered or threatened species. The Permit applications are related to scientific research and fisheries management measures in waters of the Puget Sound/Georgia Basin, Washington. The research permits and fishery permit and the Plan each have a proposed term of 5 years.

We request comments from the public on the draft EA, the proposed Plan and associated applications. All comments received will become part of the public record.

DATES: Written comments on the draft EA and proposed Plan and associated applications must be received on or before April 23, 2012.

ADDRESSES: Address all written comments to: Dan Tonnes, National Marine Fisheries Service, 7600 Sand Point Way NE., Building Number 1, Seattle, WA 98115-6349, facsimile (206) 526-6426. Comments may be submitted by email to the following address: WDFWEA.nwr@noaa.gov. In the subject line of the email, include the Document identifier: WDFW EA. Comments and materials received will be available for public inspection, by appointment, during normal business hours at the office listed in the ADDRESSES section of this notice.

FOR FURTHER INFORMATION CONTACT: Dan Tonnes, National Marine Fisheries Service, 7600 Sand Point Way NE., Building Number 1, Seattle, WA 98115-6349, facsimile (206) 526-6426, phone (206) 526-4643, email: Dan.Tonnes@noaa.gov.

SUPPLEMENTARY INFORMATION:

Statutory Authority

Section 9 of the ESA and its implementing Federal regulations prohibit the taking of a species listed as endangered or threatened. The term “take” is defined under the ESA to mean harass, harm, pursue, hunt, shoot, wound, kill, trap, capture, or collect, or to attempt to engage in any such conduct (16 U.S.C. 1532(19). “Harm” is defined to include significant habitat modification or degradation where it actually kills or injures wildlife by significantly impairing essential behavioral patterns, including breeding, feeding, and sheltering (64 FR 60727, November 8, 1999). “Harass” is defined as an intentional or negligent act or omission which creates the likelihood of injury to wildlife by annoying it to such an extent as to significantly disrupt normal behavioral patterns including breeding, feeding, and sheltering.

NMFS may issue permits, under limited circumstances, to allow the take of listed species incidental to, and not the purpose of, otherwise lawful activities, and for scientific research. NMFS proposes to issue four research permits pursuant to section 10(a)(1)(A) and one incidental take permit pursuant to section 10(a)(1)(B) of the ESA. NMFS regulations governing permits for threatened and endangered species are at 50 CFR 222.307.

Background

Fisheries within portions of the Puget Sound/Georgia Basin are managed by the WDFW. ESA-listed yelloweye rockfish (Sebastes ruberrimus), canary rockfish (Seb. pinniger), and bocaccio (Seb. paucispinis) and threatened Puget Sound Chinook salmon (Oncorhyncus tshawytscha) are incidentally caught in the commercial shrimp trawl fishery and the recreational bottom fish fishery authorized by the state. The threatened southern DPS of eulachon (Thaleichthys pacificus) and threatened southern DPS of North American green sturgeon (Acipenser medirostris) can be incidentally caught in the commercial shrimp trawl fishery that occur in the Puget Sound/Georgia Basin. WDFW conducts scientific research in the Puget Sound/Georgia Basin that takes ESA-listed rockfish, the threatened Evolutionarily Significant Units (ESUs) of Puget Sound Chinook salmon and Hood Canal summer-run chum salmon (O. keta), the DPSs of threatened Puget Sound steelhead (O. mykiss), southern North American green sturgeon, and southern eulachon. The Permit applications WDFW submitted to NMFS address the potential take these listed species.

On April 27, 2010, NMFS listed the Puget Sound/Georgia Basin Distinct Population Segments (DPSs) of yelloweye rockfish, and canary rockfish, as threatened, and bocaccio as endangered species under the ESA (75 FR 22276). Prior to the listing, WDFW initiated discussions with NMFS to pursue ESA compliance for state authorized fisheries and research activities that are likely to incidentally encounter ESA-listed rockfish within state waters of the DPSs. NMFS has provided assistance to the WDFW in development of a Conservation Plan and an application for an incidental take permit (ITP) for ESA-listed rockfish and other species likely to be affected by several state-authorized fisheries and state-conducted research efforts.

The draft EA analyzes three alternatives. In the no-action alternative NMFS would not issue research permits or incidental take permit, and WDFW would close the the commercial shrimp trawl fishery and the recreational bottom fish fishery, and no longer conduct certain research. In the proposed alternative NMFS would issue all four research permits, and the fisheries permit. The fishery permit would be issued with additional protections to limit and track take of listed fish. In the third alternative NMFS would issue all four research permits and the fishery permit. The fishery permit would include less fisheries restrictions and would result in greater take numbers of ESA-listed rockfish. NMFS's proposed action is to issue the four research permits and the fisheries permit that include protections to further reduce and track take of listed fish.

NMFS will evaluate the applications, associated documents, and comments submitted to determine whether the applications meet requirements of the ESA and NEPA. We will then prepare the final EA. Our decisions of whether to issue an incidental take permit and scientific research permits will be made upon completion of the final EA and the ESA determination.

Document Availability

The documents are available electronically on the World Wide Web at http://www.nwr.noaa.gov.

Dated: March 21, 2012.
Larissa Plants,
Acting Chief, Endangered Species Division, Office of Protected Resources, National Marine Fisheries Service.

[FR Doc. 2012-7599 Filed 3-29-12; 8:45 am]

BILLING CODE 3510-22-P